DEPARTMENT OF THE INTERIOR

Bureau of Indian Affairs

Advisory Board for Exceptional Children

AGENCY: Bureau of Indian Affairs, Interior

ACTION: Notice of meeting.

SUMMARY: The Bureau of Indian Education (BIE) is announcing that the Advisory Board for Exceptional Children (Advisory Board) will hold its next meeting in Washington, DC The purpose of the meeting is to meet the mandates of the Individuals with Disabilities Education Act of 2004 (IDEA) for Indian children with disabilities.

DATES: The Advisory Board will meet on Thursday, September 27, 2012, from 8:30 a.m. to 4:30 p.m. and Friday, September 28, 2012 from 8:30 a.m. to 4:30 p.m. Eastern Time.

ADDRESSES: The meeting will be held at 1849 C Street, NW., MS 3609-Main Interior Building, Room 3624, Washington, DC; telephone number (202) 208-6123.

FOR FURTHER INFORMATION CONTACT: Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act, the BIE is announcing that the Advisory Board will hold its next meeting in Washington, DC. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Report from Acting BIE Director

• Report from Supervisory Education Specialist, Special Education, BIE, Division of Performance and Accountability

• Updates from the BIE, Division of Performance and Accountability

• Group work on Annual Report

• Discussion on Consultation Opportunity

• Public Comment (via conference call, September 28, 2012, meeting only*).

• BIE Advisory Board-Advice and Recommendations

*During the September 28, 2012, meeting, time has been set aside for public comment via conference call from 1-1:30 p.m. Eastern Time. The call-in information is: Conference Number 1-888-417-0376, Passcode 1509140.

Dated: August 6, 2012.
Michael S. Black,
Acting Assistant Secretary—Indian Affairs.

[FR Doc. 2012-19598 Filed 8-9-12; 8:45 am]

BILLING CODE 4310-6W-P